FARM CREDIT ADMINISTRATION

Sunshine Act Meeting; Farm Credit Administration Board; Regular Meeting

AGENCY: Farm Credit Administration.

SUMMARY: Notice is hereby given, pursuant to the Government in the Sunshine Act (5 U.S.C. 552b(e)(3)), of the forthcoming regular meeting of the Farm Credit Administration Board (Board).

Date and Time: The regular meeting of the Board will be held at the offices of the Farm Credit Administration in McLean, Virginia, on December 13, 2001, from 9 a.m. until such time as the Board concludes its business.

FOR FURTHER INFORMATION CONTACT: Kelly Mikel Williams, Secretary to the Farm Credit Administration Board, (703) 883-4025, TDD (703) 883-4444.

ADDRESSES: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

• November 6, 2001 (Open)

B. Reports

• FCS Building Association's Quarterly Report

• Report on Corporate Approvals

• Examination Bulletin: Temporary Relief for Agricultural Producers Under Stress

C. New Business

• Regulation

• Loan Purchases and Sales 12 CFR Parts 614 and 619 (Final Rule)

• Other

• Northwest Louisiana PCA Conversion

Closed Session¹

¹ Session Closed—Exempt pursuant to 5 U.S.C. 552b(c)(8) and (9).

D. Report

• OSMO Report

Dated: December 10, 2001.
Jeanette C. Brinkley,
Acting Secretary, Farm Credit Administration Board.

[FR Doc. 01-30817 Filed 12-10-01; 2:04 pm]

BILLING CODE 6705-01-P